DEPARTMENT OF COMMERCE

National Oceanic and Atmospheric Administration

15 CFR Part 922

[Docket No 150306233-5233-01]

RIN 0648-BE95

Expansion of Gulf of the Farallones and Cordell Bank National Marine Sanctuaries, and Regulatory Changes; Name Change

AGENCY: Office of National Marine Sanctuaries (ONMS), National Ocean Service (NOS), National Oceanic and Atmospheric Administration (NOAA), Department of Commerce (DOC).

ACTION: Notice of effective date; final rule, technical amendment.

SUMMARY: The National Oceanic and Atmospheric Administration (NOAA) is providing notice that the final rule published on March 12, 2015 (80 FR 13078) became effective on June 9, 2015. NOAA is also changing the name of Gulf of the Farallones National Marine Sanctuary to Greater Farallones National Marine Sanctuary.

DATES: Effective Date: The regulations published on March 12, 2015 (80 FR 13078) became effective on June 9, 2015. The technical amendment changing the name of Gulf of the Farallones National Marine Sanctuary becomes effective upon publication of this final rule on June 15, 2015.

FOR FURTHER INFORMATION CONTACT: Maria Brown, Superintendent, Greater Farallones National Marine Sanctuary, (415) 561-6622 ext. 301 or Maria.Brown@noaa.gov.

SUPPLEMENTARY INFORMATION: The Gulf of the Farallones National Marine Sanctuary (GFNMS) was designated in 1981 and was originally named the Point Reyes/Farallon Islands National Marine Sanctuary. The name was changed to Gulf of the Farallones National Marine Sanctuary on January 27, 1997 (62 FR 3788). In March 2015, NOAA expanded the sanctuary from approximately 1,282 square miles (968 square nautical miles) to approximately 3,295 square miles (2,488 square nautical miles)(80 FR 13078).

This document provides notice that pursuant to Section 304(b) of the National Marine Sanctuaries Act (16 U.S.C. 1434(b)), the final regulations for GFNMS and Cordell Bank National Marine Sanctuary published on March 12, 2015 (80 FR 13078) took effect after 45 days of continuous session of Congress beginning on March 12, 2015. Through this notice, NOAA is announcing the regulations became effective on June 9, 2015. The final rule published on March 12, 2015 postponed for 6 months the effective date for the discharge requirements in both expansion areas with regard to U.S. Coast Guard activities, starting on the day when the rest of the final rule became effective. Therefore the effective date for the discharge requirements in both expansion areas with regard to U.S. Coast Guard activities is December 9, 2015.

With this expansion, which extends the scope of the sanctuary well beyond the Farralon Islands, the existing name “Gulf of the Farallones” no longer adequately reflects the area's bioregion. The need to change the sanctuary's name was raised during the public hearings on the GFNMS expansion. Consequently, the GFNMS Sanctuary Advisory Council established a subcommittee to explore a potential new name for the expanded sanctuary. GFNMS staff, working with a team of marketing experts, then developed a list of 30 potential names and presented them to the subcommittee, which narrowed the list to three names for consideration by the full Advisory Council on November 19, 2014. On February 25, 2015, the Advisory Council recommended two options to the GFNMS Superintendent: (1) Keeping the name “Gulf of the Farallones National Marine Sanctuary” because the name is familiar and still represents one of the core elements of the sanctuary ecosystem; and (2) changing the name to the Greater Farallones National Marine Sanctuary to better capture the added features of the expanded sanctuary. After reviewing both of these recommendations carefully, NOAA decided on “Greater Farallones National Marine Sanctuary” to be more inclusive and representative of the expanded sanctuary.

Classification

A. Executive Order 12866: Regulatory Impact

This final rule has been determined to be not significant for purposes of the meaning of Executive Order 12866.

B. Administrative Procedure Act/Regulatory Flexibility Act

The Assistant Administrator of the National Ocean Service (NOS) finds good cause pursuant to 5 U.S.C. 553(b)(B) to waive the notice and comment requirements of the Administrative Procedure Act because this amendment is technical in nature, having no substantive impact, and no useful purpose would be served by providing notice and opportunity for comment under the Administrative Procedure Act. Nor is a 30-day delay in effective date required under 5 U.S.C. 553(d) due to the non-substantive nature of this technical amendment. NOAA has decided to make this document effective upon publication because public comment and delayed effectiveness are unnecessary.

C. Regulatory Flexibility Act

Because notice and opportunity for comment are not required pursuant to 5 U.S.C. 553 or any other law, the analytical requirements of the Regulatory Flexibility Act (5 U.S.C. 601 et seq.) are inapplicable. Therefore, a regulatory flexibility analysis is not required and has not been prepared.

(Federal Domestic Assistance Catalog Number 11.429 Marine Sanctuary Program)

Dated: June 9, 2015.
W. Russell Callender,
Acting Assistant Administrator for Ocean Services and Coastal Zone Management.

Accordingly, for the reasons discussed in the preamble, the National Oceanic and Atmospheric Administration amends 15 CFR part 922 as follows:

PART 922—NATIONAL MARINE SANCTUARY PROGRAM REGULATIONS

1. The authority citation for part 922 continues to read as follows:

Authority: 16 U.S.C. 1431 et seq.

Subpart H—[Amended]

2. Amend Subpart H of Part 922 by removing “Farallones National Marine Sanctuary” wherever it appears and adding in its place “Greater Farallones National Marine Sanctuary.”

§ 922.110 [Amended]

3. Amend § 922.110 by removing “Farallones National Marine Sanctuary” and adding in its place “Greater Farallones National Marine Sanctuary” and removing “FNMS” and adding in its place “GFNMS.”

§ 922.130 [Amended]

4. Amend § 922.130 by removing “Gulf of the Farallones National Marine Sanctuary” and adding in its place “Greater Farallones National Marine Sanctuary.”

[FR Doc. 2015-14639 Filed 6-12-15; 8:45 am]

BILLING CODE 3510-NK-P